DEPARTMENT OF HEALTH AND HUMAN SERVICES

Meeting of the Advisory Committee on Minority Health; Correction

AGENCY: Office of Minority Health, Office of the Assistant Secretary for Health, Office of the Secretary, Department of Health and Human Services.

ACTION: Notice: Correction.

SUMMARY: The Department of Health and Human Services published a notice in the Federal Register of December 21, 2010 announcing a meeting of the Advisory Committee on Minority Health. It was announced that this meeting would be held on Monday, January 10, 2011 from 9 a.m. to 5 p.m. and Tuesday, January 11, 2011 from 9 a.m. to 1 p.m. Due to unforseen circumstances the meeting date has been changed.

FOR FURTHER INFORMATION CONTACT: Ms. Monica A. Baltimore, Phone: 240-453-2882 Fax: 240-453-2883.

Correction

In the Federal Register of December 21, 2010, Vol. 75, No. 244, on page 80055, in the 2nd column, correct the DATES caption to read:

The meeting will be held on Monday, February 21, 2011 from 9 a.m. to 5 p.m. and Tuesday, February 22, 2011 from 9 a.m. to 1 p.m.

Dated: December 28, 2010.
Mirtha Beadle,
Deputy Director, Office of Minority Health, Office of the Assistant Secretary for Health, Office of the Secretary, U.S. Department of Health and Human Services.

[FR Doc. 2010-33084 Filed 12-30-10; 8:45 am]

BILLING CODE 4150-29-P